DEPARTMENT OF TRANSPORTATION

Federal Aviation Administration

14 CFR Part 71

[Docket No. FAA-2005-22845; Airspace Docket No. 05-ANM-14]

Revocation of Class E Airspace; Eagle, CO

AGENCY: Federal Aviation Administration (FAA), DOT.

ACTION: Final rule.

SUMMARY: This action revokes Class E airspace, Eagle, Colorado published in the Federal Register October 13, 2005 (70 FR 59652). The FAA is taking this action due to errors in the effective date, airspace description, and geographic coordinates.

DATES: Effective Date: November 22, 2005.

FOR FURTHER INFORMATION CONTACT: Ed Haeseker, Federal Aviation Administration, Western En Route and Oceanic Area Office, Airspace Branch, 1601 Lind Avenue, SW., Renton, WA 98055-4056; telephone: (425) 227-2527.

SUPPLEMENTARY INFORMATION:

History

On October 13, 2005, a final rule was published in the Federal Register establishing Class E airspace at Eagle County Regional Airport, Eagle, CO (70 FR 59652), Federal Register Docket No. FAA-2005-21078. Subsequent to further review by the charting office, it was found that there were numerous errors in the airspace description. As a result, the FAA has decided to revoke the Class E airspace area.

Class E airspace descriptions are published in paragraph 6002 of FAA Order 7400.9N dated September 1, 2005 and effective September 15, 2005, which is incorporated by reference in 14 CFR part 71.1.

The Rule

This action amends Title 14 Code of Federal Regulations (14 CFR) part 71 by revoking the Class E airspace area at Eagle County Regional Airport, Eagle, CO. The FAA is taking this action due to errors in the airspace description.

In consideration of the errors in the original rule, the FAA finds good cause, pursuant to 5 U.S.C. 553(d), for making this amendment effective in less than 30 days in order to promote the safe and efficient handling of air traffic in the area.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by Reference, Navigation (air).

The Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR 1959-1963 Comp., p. 389.

§ 71.1 [Amended]

2. The incorporation by reference in 14 CFR part 71.1 of FAA Order 7400.9N, Airspace Designations and Reporting Points, dated September 1, 2005, and effective September 15, 2005, is amended as follows:

* * * * *

ANM WA E Eagle, CO [Removed]

* * * * *

Issued in Seattle, Washington, on November 4, 2005.
Raul C. Treviño,
Area Director, Western En Route and Oceanic Operations.

[FR Doc. 05-23017 Filed 11-21-05; 8:45am]

BILLING CODE 4910-13-M